DEPARTMENT OF ENERGY

Federal Energy Regulatory Commission

Notice of FERC Staff Attendance at Meetings, or Participation in Teleconferences, of Southwest Power Pool Board of Directors and Members Committee, Regional State Committee, Regional Planning Summit and Participant Funding Symposium

May 25, 2004.

The Federal Energy Regulatory Commission hereby gives notice that members of its staff may attend the following meetings, or participate in the following teleconferences, of the Southwest Power Pool (SPP) Board of Directors and Members Committee, Regional State Committee, Regional Planning Summit and Participant Funding Symposium. The staff's attendance or participation is part of the Commission's ongoing outreach efforts.

SPP Regional State Committee Teleconference—June 2, 2004, 10 a.m.-12 p.m. (c.s.t.).

SPP Regional State Committee Meeting—July 26, 2004, time to be announced. Embassy Suites KCI, 7640 NW Tiffany Springs Parkway, Kansas City, MO 64153.

SPP Board of Directors and Members Committee Meeting—July 27, 2004, 10 a.m.-3 p.m. (c.s.t.). Embassy Suites KCI, 7640 NW Tiffany Springs Parkway, Kansas City, MO 64153.

SPP Regional Planning Summit Meeting—June 8, 2004, 10 a.m.-4 p.m. (c.s.t.). Marriott DFW Airport North Hotel, 8440 Freeport Parkway, Irving, TX.

SPP Participant Funding Symposium Meeting—June 9, 2004, 9:30 a.m.-4:30 p.m. (c.s.t.). Marriott DFW Airport North Hotel, 8440 Freeport Parkway, Irving, TX.

The discussions may address matters at issue in the following proceedings:

Docket Nos. RT04-1-000 and ER04-48-000, Southwest Power Pool, Inc.;

Docket No. ER04-434-000, Southwest Power Pool, Inc.;

Docket No. ER04-658-000, Southwest Power Pool, Inc.;

Docket No. ER04-799-000, Southwest Power Pool, Inc.;

Docket No. ER04-833-000, Southwest Power Pool, Inc.

These meetings and teleconferences are open to the public.

For more information, contact Tony Ingram, Office of Markets, Tariffs and Rates, Federal Energy Regulatory Commission at (202) 502-8938 or tony.ingram@ferc.gov.

Magalie R. Salas,
Secretary.

[FR Doc. E4-1232 Filed 5-28-04; 8:45 am]

BILLING CODE 6717-01-P